DEPARTMENT OF EDUCATION

[Docket No.: ED-2023-SCC-0214]

Evaluation of Full-Service Community Schools; Correction

AGENCY: Department of Education (ED), Institute of Education Sciences (IES).

ACTION: Correction notice.

SUMMARY: On December 18, 2023, the U.S. Department of Education published a 60-day comment period notice in the Federal Register with FR DOC# 2023-27726 (Page 87416, Column 3, Page 87417, Column 1, Column 2) seeking public comment for an information collection entitled, “Evaluation of Full-Service Community Schools”. The docket number is incorrect. The correct docket number is ED-2023-SCC-0214.

The PRA Coordinator, Strategic Collections and Clearance, Office of the Chief Data Officer, Office of Planning, Evaluation and Policy Development, hereby issues a correction notice as required by the Paperwork Reduction Act of 1995.

Dated: December 18, 2023.
Juliana Pearson,
PRA Coordinator, Strategic Collections and Clearance, Office of the Chief Data Officer, Office of Planning, Evaluation and Policy Development.

[FR Doc. 2023-28147 Filed 12-20-23; 8:45 am]

BILLING CODE 4000-01-P